DEPARTMENT OF THE INTERIOR

Fish and Wildlife Service

[FWS-R1-ES-2024-0119; FXES11140100000-245-FF01E00000]

Receipt of Incidental Take Permit Application and Proposed Habitat Conservation Plan for Olympia Pocket Gopher; Tumwater Operations and Maintenance Facility, Thurston County, WA; Categorical Exclusion

AGENCY: Fish and Wildlife Service, Interior.

ACTION: Notice of availability; request for comments.

SUMMARY: We, the U.S. Fish and Wildlife Service, have received an application from the City of Tumwater Transportation and Engineering Department (applicant) for an incidental take permit (ITP) pursuant to the Endangered Species Act. The ITP would authorize the applicant's take of the federally threatened Olympia subspecies of the Mazama pocket gopher (Thomomys mazama pugetensis) (“covered species”), incidental to their otherwise lawful construction and infrastructure improvements at two locations in the City of Tumwater, Thurston County, Washington. We request public comment on the application, which includes the applicant's proposed habitat conservation plan (HCP), and on the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and categorical exclusion screening form, both of which are also available for public review. We invite comment from the public and local, State, Tribal, and Federal agencies.

DATES: Please submit written comments by October 17, 2024.

ADDRESSES:

Obtaining documents: The documents this notice announces, as well as any comments and other materials that we receive, will be available for public inspection online in on Docket No. FWS-R1-ES-2024-0119 at https://www.regulations.gov.

Submitting comments: If you wish to submit comments on any of the documents, you may do so in writing by one of the following methods:

• Online: https://www.regulations.gov. Follow the instructions for submitting comments on Docket No. FWS-R1-ES-2024-0119.

• U.S. Mail: Public Comments Processing, Attn: Docket No. FWS-R1-ES-2024-0119; U.S. Fish and Wildlife Service Headquarters, MS: PRB/3W; 5275 Leesburg Pike, Falls Church, VA 22041-3803.

FOR FURTHER INFORMATION CONTACT: Kevin Connally, Washington Fish and Wildlife Office, by email at kevin_connally@fws.gov, or by telephone at 360-753-9440. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), received an incidental take permit (ITP) application from the City of Tumwater pursuant to section 10(a)(1)(B) of the Endangered Species Act of 1973, as amended (ESA; 16 U.S.C. 1531 et seq.). The ITP, if issued, would authorize the incidental take of the Olympia pocket gopher (Thomomys mazama pugetensis) (covered species), resulting from otherwise lawful construction and infrastructure improvements at two locations in the City of Tumwater, Thurston County, Washington. We request public comment on the application, which includes the applicant's habitat conservation plan (HCP), and on the Service's preliminary determination that this proposed permitting action may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and categorical exclusion screening form, both of which are also available for public review.

Background

Section 9 of the ESA prohibits the taking of fish and wildlife species listed as endangered or threatened. The ESA defines “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3).

Section 10(a)(1)(B) of the ESA contains provisions that authorize the Service to issue permits to non-Federal entities for the take of endangered and threatened species caused by otherwise lawful activities, provided the following criteria are met: (1) the taking will be incidental to, and not the purpose of, carrying out an otherwise lawful activity; (2) the applicant will, to the maximum extent practicable, minimize and mitigate the impact of such taking; (3) the applicant will ensure that adequate funding for the conservation plan will be provided; (4) the taking will not appreciably reduce the likelihood of the survival and recovery of the species in the wild; and (5) the applicant will carry out any other measures that the Service may require as being necessary or appropriate for the purposes of the HCP. Regulations governing permits for threatened species are found at 50 CFR 17.32. The Service's general permitting regulations are found at 50 CFR part 13.

Proposed Project

The applicant proposes to construct and maintain seven new buildings, parking, access roads, a staging area for materials, a park and recreational features, a rain garden, landscaping, frontage improvements on 79th Avenue SE, and a roundabout and storm water facilities at the intersection of Old Highway 99 SE and 79th Ave. SE, and also to carry out other ground-disturbing activities described in the HCP. The 26.2-acre (ac) project site (permit area) contains a total of 8.6 ac of occupied Olympia pocket gopher habitat.

The proposed action is anticipated to impact up to 8.6 ac of Olympia pocket gopher habitat in the permit area. The applicant proposes to mitigate for unavoidable impacts to Olympia pocket gopher by use of 8.6 ac of credits in the Service-approved Deschutes Corridor conservation site purchased in 2017, which is currently occupied by the Olympia pocket gopher. The advance mitigation credit purchase was approved by the Service in 2017. The purchase of these credits fully funds the permanent management, monitoring, and adaptive management on 8.6 ac of the Deschutes Corridor conservation site. The conservation site will be managed for successful Olympia pocket gopher feeding, breeding, and sheltering.

Our Preliminary Determination

The Service has made a preliminary determination that the applicant's proposed project, including the construction of the buildings and associated infrastructure, would individually and cumulatively have a minor effect on the covered species and the human environment. Therefore, we have preliminarily determined that the proposed ESA section 10(a)(1)(B) permit would qualify for application of a categorical exclusion pursuant to the Council on Environmental Quality's NEPA regulations, DOI's NEPA regulations, and the DOI Departmental Manual.

Public Comments

You may submit your comments and materials by one of the methods listed in ADDRESSES. We specifically request information, views, and suggestions from interested parties regarding our proposed Federal action, including, without limitation, adequacy of the HCP, whether the HCP meets requirements for permits at 50 CFR parts 13 and 17, and adequacy of the EAS pursuant to the requirements of NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety at https://www.regulations.gov.

Next Steps

After the public comment period ends (see DATES), we will evaluate the permit application, associated documents, and any comments received to determine whether the permit application meets the requirements of section 10(a)(2)(B) of the ESA. We will also evaluate whether issuance of the requested permit would comply with section 7 of the ESA by conducting an intra-Service consultation under section 7(a)(2) of the ESA on the proposed action. The final NEPA and permit determinations will not be completed until after the end of the 30-day comment period and will fully consider all comments received during the comment period. If we determine that all requirements are met, we will issue an ITP under section 10(a)(1)(B) of the ESA to the applicant for the take of the covered species, incidental to otherwise lawful covered activities.

Authority

We provide this notice in accordance with the requirements of section 10(c) of the ESA (16 U.S.C. 1531 et seq.) and its implementing regulations (50 CFR 17.32), and NEPA (42 U.S.C. 4321 et seq.) and its implementing regulations (40 CFR 1500-1508 and 43 CFR 46).

Bridget Fahey,
Deputy Regional Director, Pacific Region, U.S. Fish and Wildlife Service.

[FR Doc. 2024-20625 Filed 9-16-24; 8:45 am]

BILLING CODE 4333-15-P